DEPARTMENT OF ENERGY

Federal Energy Regulatory Commission

[Docket No. RP00-390-002]

Granite State Gas Transmission, Inc.; Notice of Compliance Filing

October 2, 2001.

Take notice that on September 27, 2001, Granite State Gas Transmission, Inc. (Granite State) tendered its filing in compliance with the Commission's September 12, 2001 Order on Compliance Filing.

Granite State states that copies of its filing have been mailed to all firm and interruptible customers, affected state commissions, and parties on the official service list in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25207 Filed 10-5-01; 8:45 am]

BILLING CODE 6717-01-P